ENVIRONMENTAL PROTECTION AGENCY

[ER-FRL-6652-5]

Environmental Impact Statements; Notice of Availability

Responsible Agency: Office of Federal Activities, General Information (202) 564-7167 or http://www.epa.gov/compliance/nepa. Weekly receipt of Environmental Impact Statements filed June 7, 2004, through June 11, 2004, pursuant to 40 CFR 1506.9.

EIS No. 040271, Final EIS, FHW, VT, VT 9/100, Transportation Improvement Study (NH-010-1(33), in the Towns of Wilmington and West Dover, Federal Permits and Approvals, NPDES Permit and COE section 10 and 404 Permits. Windham County, VT, wait period ends: July 19, 2004, contact: Kenneth R. Sikora, Jr. (802) 828-4423.

EIS No. 040272, Final EIS, NPS, CA, Whiskeytown Fire Management Plan, Implementation, Whiskeytown National Recreation Area, Klamath Mountains, Shasta County, CA, wait period ends: July 19, 2004, contact: Paul DePrey (530) 242-3445.

EIS No. 040273, Final EIS, FRC, CA, Pit 3, 4, 5 Hydroelectric Project, (FERC No. 233-081), Application for New License, Pit River, Pit River Basin, Shasta-Trinity National Forest and Lassen National Forest, Shasta County, CA, wait period ends: July 19, 2004, contact: John Mudre (202) 502-8902.

EIS No. 040274, Draft EIS, DOE, MT, South Fork Flathead Watershed Westslope Cutthroat Trout Conservation Program, Preserve the Genetic Purity of the Westslope Cutthroat Trout Population, Flathead National Forest, Flathead River, Flathead, Powell and Missoula Counties, MT, comment period ends: August 2, 2004, contact: Colleen Spiering (503) 230-5756. This document is available on the Internet at: http://www.efw.bpa.gov/.

EIS No. 040275, Draft EIS, BLM, AK, Northeast National Petroleum Reserve Alaska Amended Integrated Activity Plan, to Amend 1998 Northeast Petroleum Reserve, to Consider Opening Portions of the BLM-Administrated Lands, North Slope Borough, AK, comment period ends: August 2, 2004, contact: Susan Childs (907) 271-1985.

EIS No. 040276, Final EIS, FAA, MN, Flying Cloud Airport Expansion, Extensions of the Runway 10R/28L and 10L/28R, Long-Term Comprehensive Development, in the City of Eden Prairie, MN, wait period ends: August 17, 2004, contact: Glen Orcult (612) 713-4354.

EIS No. 040277, Draft EIS, DOI, AZ, CA, NV, NM, Programmatic EIS—Lower Colorado River Multi-Species Conservation Program, Issuing a Incidental Take Permit based on the Plan, Extending from Lake Mead to the Southerly International Boundary with Mexico, AZ, NV and CA, comment period ends: August 18, 2004, contact: Glen Gould (702) 293-8702.

EIS No. 040278, Draft EIS, IBR, CA, San Joaquin River Exchange Contractors Water Authority—2005 to 2014, Water Transfer Program, Stanislaus, San Joaquin, Merced, Madera, Fresno, San Benito, Santa Clara, Kern, and Kings Counties, CA, comment period ends: August 2, 2004, contact: Sheryl Carter (559) 487-5299.

EIS No. 040279, Final EIS, DOE, OH, Portsmouth, Ohio Site Depleted Uranium Hexafluoride Conversion Facility, Construction and Operation, Pike County, OH wait period ends: July 19, 2004, contact: Gary S. Hartman (866) 530-0944. This document is available on the Internet at: http://www.eh.doe.gov/nepa/documents.htm1.

EIS No. 040280, FINAL EIS, DOE, KY, Paducah, Kentucky, Site Depleted Uranium Hexafluoride Conversion Facility, Construction and Operation, McCraken County, KY, wait period ends: July 19, 2004, contact: Gary S. Hartman (866) 530-0944. This document is available on the Internet at: http://www.eh.doe.gov/nepa/documents.htm1.

Dated: June 15, 2004.
Ken Mittelholtz,
Environmental Protection Specialist, Office of Federal Activities.

[FR Doc. 04-13859 Filed 6-17-04; 8:45 am]

BILLING CODE 6560-50-P